DEPARTMENT OF ENERGY

Federal Energy Regulatory Commission

[Docket No. RP97-71-024]

Transcontinental Gas Pipe Line Corporation; Notice of PBS Revenue Sharing Refund Report

November 15, 2000.

Take notice that on November 9, 2000, Transcontinental Gas Pipe Line Corporation (Transco) tendered for filing a refund report showing that on October 25, 2000, Transco submitted PBS revenue sharing refunds (total principal and interest amount of $299,275.79) to all affected shippers in Docket Nos. RP97-71 and RP97-312.

Transco states that Section 3.4 of Transco's Rate Schedule PBS1 provides that during the effectiveness of the Docket No. RP97-71 rate period, which began on May 1, 1997, Transco shall refund annually 75% of the fixed cost component of all revenues collected associated with Rate Schedule PBS parking/borrowing charges to maximum rate firm transportation, maximum rate interruptible transportation and maximum rate firm storage Buyers (collectively, Eligible Shippers). Transco has calculated that the refund amount for the annual period from May 1, 1999 through April 30, 2000 equals $299,275.79. Pursuant to Section 3.4 of Rate Schedule PBS, Transco refunded that amount to Eligible Shippers based on each Eligible Shipper's actual fixed cost contribution as a percentage of the total fixed cost contribution of all such Eligible Shippers (exclusive of the fixed cost contribution pertaining to service purchased by Seller from third parties).

Any person desiring to protest said filing should file a protest with the Federal Energy Regulatory Commission, 888 First Street, NE., Washington, DC 20426, in accordance with Section 385.211 of the Commission's Rules and Regulations. All such protests must be filed on or before November 22, 2000. Protests will be considered by the Commission in determining the appropriate action to be taken, but will not serve to make protestants parties to the proceedings. Copies of this filing are on file with the Commission and are available for public inspection in the Public Reference Room. This filing may be viewed on the web at http://www.ferc.fed.us/online/rims.htm. (call 202—208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29701 Filed 11-20-00; 8:45 am]

BILLING CODE 6717-01-M